DEPARTMENT OF HEALTH AND HUMAN SERVICES

Centers for Disease Control and Prevention

Meeting of the Board of Scientific Counselors, Office of Readiness and Response

AGENCY: Centers for Disease Control and Prevention (CDC), Department of Health and Human Services (HHS).

ACTION: Notice of meeting.

SUMMARY: In accordance with the Federal Advisory Committee Act, the Centers for Disease Control and Prevention (CDC) announces the following meeting for the Board of Scientific Counselors, Office of Readiness and Response, (BSC, ORR). This virtual meeting is open to the public. Time will be available for public comment.

DATES: The meeting will be held on May 23, 2024, from 10 a.m. to 4:30 p.m., EDT.

ADDRESSES: Zoom virtual meeting. If you wish to attend the meeting, please register in advance by accessing the link at https://cdc.zoomgov.com/webinar/register/WN_kNZWpr8KRVGTGN0ERE_1Cg#/registration. Instructions to access the meeting will be provided following registration.

FOR FURTHER INFORMATION CONTACT: Dometa Ouisley, Public Health Analyst, Office of Science and Laboratory Readiness, Office of Readiness and Response, Centers for Disease Control and Prevention, 1600 Clifton Road NE, Mailstop H21-6, Atlanta, Georgia 30329-4027. Telephone: (404) 639-7450; Email: DOuisley@cdc.gov.

SUPPLEMENTARY INFORMATION:

Purpose: The Board of Scientific Counselors, Office of Readiness and Response provides advice and guidance to the Secretary, Department of Health and Human Services (HHS); the Assistant Secretary for Health, HHS; the Director, Centers for Disease Control and Prevention (CDC); and the Director, Office of Readiness and Response (ORR), CDC. The Board recommends strategies and goals for readiness and response activities pertaining to programs and research within the agency and the ORR divisions and monitors the overall strategic direction and focus of the ORR divisions and offices. The Board may also perform second-level peer review of applications for grants-in-aid for research and research training activities, cooperative agreements, and research contract proposals relating to the broad areas within the center. For additional information about the Board, please visit https://www.cdc.gov/orr/bsc/index.htm.

Matters to be Considered: Agenda topics for the meeting include: (1) ORR Updates, (2) ORR Division Directors Follow-up Discussion, (3) Polio Containment Working Group Updates, (4) Health Equity Working Group Updates, and (5) ORR Science Agenda Presentation and Discussion. Agenda items are subject to change as priorities dictate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-08448 Filed 4-19-24; 8:45 am]

BILLING CODE 4163-18-P